DEPARTMENT OF ENERGY

Hydrogen and Fuel Cell Technical Advisory Committee (HTAC)

AGENCY: Office of Energy Efficiency and Renewable Energy, Department of Energy.

ACTION: Notice of open meeting.

SUMMARY: The Hydrogen and Fuel Cell Technical Advisory Committee (HTAC) was established under section 807 of the Energy Policy Act of 2005 (EPACT), Public Law No. 109-58; 119 Stat. 849. The Federal Advisory Committee Act, Public Law No. 92-463, 86 Stat. 770, requires that agencies publish notice of an advisory committee meeting in the Federal Register. To attend the meeting and/or to make oral statements during the public comment period, please e-mail HTAC@nrel.gov at least 5 business days before the meeting. Please indicate if you will be attending the meeting both days or a specific day, if you want to make an oral statement on July 23, 2008, and what organization you represent (if appropriate).

DATES: Tuesday, July 22, 2008, from 9 a.m.-6 p.m. and Wednesday, July 23, 2008, from 8:30 a.m.-3 p.m.

ADDRESSES: L'Enfant Plaza Hotel, 480 L'Enfant Plaza, SW., Washington, DC 20024.

FOR FURTHER INFORMATION CONTACT: HTAC@nrel.gov.

SUPPLEMENTARY INFORMATION:

Purpose of the Meeting: To provide advice, information, and recommendations to the Secretary on the program authorized by title VIII of EPACT.

Tentative Agenda (Subject to change; updates will be posted on http://hydrogen.energy.gov and copies of the final agenda will be available the date of the meeting). The following items will be covered on the agenda:

• Role of Government Vision and Policy

• Global Competitive Environment

• Discussion of HTAC Vision Statement

• Report on NAS Resources Study

• Discussion of Talking Points for the Next Administration

• Discussion of HTAC Report and Index

• Discussion of Innovative Market Demand Strategies

• Nominations for and/or election of Committee Chair

• Public Comment Period

Public Participation: In keeping with procedures, members of the public are welcome to observe the business of the meeting of HTAC and to make oral statements during the specified period for public comment. The public comment period is tentatively scheduled for 2:30 p.m. and 3 p.m. on July 23, 2008. To attend the meeting and/or to make oral statements regarding any of the items on the agenda, e-mail HTAC@nrel.gov at least 5 business days before the meeting. Please indicate if you will be attending the meeting on both days or a particular day, if you want to make an oral statement, and what organization you represent (if appropriate). Members of the public will be heard in the order in which they sign up for the public comment period. Oral comments should be limited to two minutes in length. Reasonable provision will be made to include the scheduled oral statements on the agenda. The chair of the committee will make every effort to hear the views of all interested parties and to facilitate the orderly conduct of business. If you would like to file a written statement with the committee, you may do so either by submitting a hard copy at the meeting or by submitting an electronic copy to HTAC@nrel.gov.

Minutes: The minutes of the meeting will be available for public review at http://www.hydrogen.energy.gov.

Issued at Washington, DC, on June 26, 2008.
Rachel Samuel,
Deputy Committee Management Officer.

[FR Doc. E8-14997 Filed 7-1-08; 8:45 am]

BILLING CODE 6450-01-P